DEPARTMENT OF THE TREASURY

Submission for OMB Review; Comment Request

May 13, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW. Washington, DC 20220.

DATES: Written comments should be received on or before June 21, 2010 to be assured of consideration.

Financial Management Service (FMS)

OMB Number: 1510-0007.

Type of Review: Extension without change of a currently approved collection.

Title: Direct Deposit Sign-Up Form and Go Direct Sign Up Form.

Form: SF-1199A, FMS 1200.

Abstract: The Direct Deposit Sign-Up Form is used by recipients to authorize the deposit of Federal payments into their accounts at financial institutions. The information is used to route the Direct Deposit payment to the correct account at the correct financial institution. It identifies persons who have executed the form.

Respondents: Individuals and Households.

Estimated Total Burden Hours: 69,142 hours.

OMB Number: 1510-0066.

Type of Review: Extension without change of a currently approved collection.

Title: 31 CFR Part 208—Management; Final Rule.

Abstract: This regulation requires that most Federal payments be made by Electronic Funds Transfer (EFT); sets forth waiver requirements; and provides for a low-cost Treasury-designated account to individuals at a financial institution that offers such accounts.

Respondents: Private Sector: Businesses or other for-profits.

Estimated Total Burden Hours: 325 hours.

Bureau Clearance Officer: Wesley Powe, Financial Management Service, 3700 East West Highway, Room 135, Hyattsville, MD 20782; (202) 874-7662.

OMB Reviewer: Shagufta Ahmed, Office of Management and Budget, New Executive Office Building, Room 10235, Washington, DC 20503; (202) 395-7873.

Celina Elphage,
Treasury PRA Clearance Officer.

[FR Doc. 2010-12095 Filed 5-19-10; 8:45 am]

BILLING CODE 4830-01-P